FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011741-001.

Title: U.S. Pacific Coast-Oceania Agreement.

Parties: Australia-New Zealand Direct Line, FESCO Ocean Management Limited, Hamburg Sud, P&O Nedlloyd Limited, P&O Nedlloyd B.V.

Synopsis: The proposed agreement modification makes technical changes in the agreement to reflect applicable Australian legal requirements.

Agreement No.: 011750.

Title: FOML/BHP IMT Slot Charter Agreement.

Parties: FESCO Ocean Management Ltd., BHP International Marine Transport.

Synopsis: Under the proposed agreement, FESCO will charter space from BHP for the carriage of empty non-operating reefer containers from the U.S. Pacific Coast to Australia.

Agreement No.: 011751.

Title: Braztrans Joint Service Agreement.

Parties: Companhia Libra de Navegacao, Compania Sud Americana de Vapores S.A.

Synopsis: The proposed agreement authorizes the parties to operate a joint service in the trade between U.S. Atlantic Coast ports and ports in Brazil. The parties request expedited review.

Agreement No.: 200809-001.

Title: Port Manatee Cruise Facilities and Operations Agreement.

Parties: Manatee County Port Authority, Regal Enterprises, Inc.

Synopsis: The proposed amendment extends the agreement through the spring cruise season of 2003.

Agreement No.: 201073-001.

Title: New Orleans/Cosco/K-Line/Yang Ming Crane Agreement.

Parties: Port of New Orleans, Cosco North America, Inc., “K” Line America, Inc., Yang Ming Line.

Synopsis: The proposed agreement amendment revises the rate schedule for the rental of cranes used by the carriers at the port.

Dated: February 23, 2001.
By Order of the Federal Maritime Commission.
Bryant L. VanBrakle,
Secretary.

[FR Doc. 01-4881 Filed 2-27-01; 8:45 am]

BILLING CODE 6730-01-P